OFFICE OF SCIENCE AND TECHNOLOGY POLICY

Request for Information: Public Access to Peer-Reviewed Scholarly Publications Resulting From Federally Funded Research

ACTION: Notice of Request for Information (RFI).

SUMMARY: In accordance with Section 103(b)(6) of the America COMPETES Reauthorization Act of 2010 (ACRA; Pub. L. 111-358), this Request for Information (RFI) offers the opportunity for interested individuals and organizations to provide recommendations on approaches for ensuring long-term stewardship and broad public access to the peer-reviewed scholarly publications that result from federally funded scientific research. The public input provided through this Notice will inform deliberations of the National Science and Technology Council's Task Force on Public Access to Scholarly Publications.

Release Date: November 3, 2011.

Response Date: January 2, 2012.

ADDRESSES: publicaccess@ostp.gov.

Issued By

Office of Science and Technology Policy (OSTP) on behalf of the National Science and Technology Council (NSTC).

SUPPLEMENTARY INFORMATION:

Purpose

In accordance with Section 103(b)(6) of the America COMPETES Reauthorization Act of 2010 (ACRA; Pub. L. 111-358), this Request for Information (RFI) offers the opportunity for interested individuals and organizations to provide recommendations on approaches for ensuring long-term stewardship and broad public access to the peer-reviewed scholarly publications that result from federally funded scientific research. The public input provided through this Notice will inform deliberations of the National Science and Technology Council's Task Force on Public Access to Scholarly Publications.

Background

The multi-agency Task Force on Public Access to Scholarly Publications (Task Force), established under the National Science and Technology Council (NSTC) Committee on Science (CoS), has been tasked with developing options for implementing the scholarly publications requirements of Section 103 of ACRA. OSTP will issue a report to Congress, in accordance with Section 103(e) of ACRA, describing priorities for the development of agency policies for ensuring broad public access to the results of federally funded unclassified research, the status of agency policies for public access to publications resulting from federally funded research, and a summary of public input collected from this RFI and other mechanisms.

In 2009 and 2010, OSTP conducted a public consultation about policy options for expanding public access to federally funded peer-reviewed scholarly articles. The Task Force has reviewed the information submitted through OSTP's public consultation (the full set of comments can be viewed on the OSTP Web site [http://www.whitehouse.gov/blog/2010/03/08/public-access-policy-update]), experience with the various policies currently in use at a variety of Federal agencies, and a report from the congressionally convened Scholarly Publishing Roundtable (http://www.aau.edu/WorkArea/showcontent.aspx?id=10044). The Task Force is now seeking additional insight from “non-Federal stakeholders, including the public, universities, nonprofit and for-profit publishers, libraries, federally funded and non-federally funded research scientists, and other organizations and institutions with a stake in long-term preservation and access to the results of federally funded research,” as described in Section 103(b)(6) of the ACRA. Specifically, OSTP seeks further public comment on the questions listed below, on behalf of the Task Force:

(1) Are there steps that agencies could take to grow existing and new markets related to the access and analysis of peer-reviewed publications that result from federally funded scientific research? How can policies for archiving publications and making them publically accessible be used to grow the economy and improve the productivity of the scientific enterprise? What are the relative costs and benefits of such policies? What type of access to these publications is required to maximize U.S. economic growth and improve the productivity of the American scientific enterprise?

(2) What specific steps can be taken to protect the intellectual property interests of publishers, scientists, Federal agencies, and other stakeholders involved with the publication and dissemination of peer-reviewed scholarly publications resulting from federally funded scientific research? Conversely, are there policies that should not be adopted with respect to public access to peer-reviewed scholarly publications so as not to undermine any intellectual property rights of publishers, scientists, Federal agencies, and other stakeholders?

(3) What are the pros and cons of centralized and decentralized approaches to managing public access to peer-reviewed scholarly publications that result from federally funded research in terms of interoperability, search, development of analytic tools, and other scientific and commercial opportunities? Are there reasons why a Federal agency (or agencies) should maintain custody of all published content, and are there ways that the government can ensure long-term stewardship if content is distributed across multiple private sources?

(4) Are there models or new ideas for public-private partnerships that take advantage of existing publisher archives and encourage innovation in accessibility and interoperability, while ensuring long-term stewardship of the results of federally funded research?

(5) What steps can be taken by Federal agencies, publishers, and/or scholarly and professional societies to encourage interoperable search, discovery, and analysis capacity across disciplines and archives? What are the minimum core metadata for scholarly publications that must be made available to the public to allow such capabilities? How should Federal agencies make certain that such minimum core metadata associated with peer-reviewed publications resulting from federally funded scientific research are publicly available to ensure that these publications can be easily found and linked to Federal science funding?

(6) How can Federal agencies that fund science maximize the benefit of public access policies to U.S. taxpayers, and their investment in the peer-reviewed literature, while minimizing burden and costs for stakeholders, including awardee institutions, scientists, publishers, Federal agencies, and libraries?

(7) Besides scholarly journal articles, should other types of peer-reviewed publications resulting from federally funded research, such as book chapters and conference proceedings, be covered by these public access policies?

(8) What is the appropriate embargo period after publication before the public is granted free access to the full content of peer-reviewed scholarly publications resulting from federally funded research? Please describe the empirical basis for the recommended embargo period. Analyses that weigh public and private benefits and account for external market factors, such as competition, price changes, library budgets, and other factors, will be particularly useful. Are there evidence-based arguments that can be made that the delay period should be different for specific disciplines or types of publications?

Please identify any other items the Task Force might consider for Federal policies related to public access to peer-reviewed scholarly publications resulting from federally supported research.

Response to this RFI is voluntary. Responders are free to address any or all the above items, as well as provide additional information that they think is relevant to developing policies consistent with increased public access to peer-reviewed scholarly publications resulting from federally funded research. Please note that the U.S. Government will not pay for response preparation or for the use of any information contained in the response.

How To Submit a Response

All comments must be submitted electronically to: publicaccess@ostp.gov.

Responses to this RFI will be accepted through January 2, 2012. You will receive an electronic confirmation acknowledging receipt of your response, but will not receive individualized feedback on any suggestions. No basis for claims against the U.S. Government shall arise as a result of a response to this request for information or from the Government's use of such information.

Inquiries

Specific questions about this RFI should be directed to the following email address: publicaccess@ostp.gov.

Form should include:

[Assigned ID #]

[Assigned Entry date]

Name/Email

Affiliation/Organization

City, State

Comment 1

Comment 2

Comment 3

Comment 4

Comment 5

Comment 6

Comment 7

Comment 8

Please identify any other items the Task Force might consider for Federal policies related to public access to peer-reviewed scholarly publications resulting from federally supported research.

{Attachment is: Please attach any documents that support your comments to the questions.}

Ted Wackler,
Deputy Chief of Staff.

[FR Doc. 2011-28623 Filed 11-3-11; 8:45 am]

BILLING CODE P